NATIONAL AERONAUTICS AND SPACE ADMINISTRATION

[Notice (03-010)]

Notice of Prospective Patent License

AGENCY: National Aeronautics and Space Administration.

ACTION: Notice of prospective patent license.

SUMMARY: NASA hereby gives notice that Graftel, Inc., of Rolling Meadows, IL, has applied for a partially exclusive patent license to practice the invention disclosed in NASA Case No. KSC-12220 entitled “Current Signature Sensor” for which a U.S. Patent Application was filed and assigned to the United States of America as represented by the Administrator of the National Aeronautics and Space Administration. The field of use will be the electric utility industry. Written objections to the prospective grant of a license should be sent to John F. Kennedy Space Center.

DATES: Responses to this notice must be received by February 24, 2003.

FOR FURTHER INFORMATION CONTACT: Randall M. Heald, Assistant Chief Counsel/Patent Counsel, John F. Kennedy Space Center, Mail Code CC-A, Kennedy Space Center, FL 32899, telephone (321) 867-7214.

Dated: January 31, 2003.
Robert M. Stephens,
Deputy General Counsel.

[FR Doc. 03-3109 Filed 2-6-03; 8:45 am]

BILLING CODE 7510-01-P